DEPARTMENT OF LABOR

Employment and Training Administration

[TA-W-81,751]

General Motors Vehicle Manufacturing Including On-Site Leased Workers From Aerotek, Kelly Services, Voith Industrial Services, Shreveport Ramp Services, Dana Holding Corporation, the Landing Of GM, Filtration Services Group, BASF, G4S Secure Coalition, Seibert Powder Coating, Advantis Occupational Health, Veolis ES Industrial Services, Inc., Automotive Quality Associates, and Career Adventures, Shreveport, Louisiana; Amended Certification Regarding Eligibility to Apply for Worker Adjustment Assistance

In accordance with Section 223 of the Trade Act of 1974, as amended (“Act”), 19 U.S.C. 2273, the Department of Labor issued a Certification of Eligibility to Apply for Worker Adjustment Assistance on August 3, 2012, applicable to workers of General Motors Vehicle Manufacturing, including on-site leased workers from Aerotek, Kelly Services, Voith Industrial Services, Shreveport Ramp Services, Dana Holding Corporation, The Landing of GM, Filtration Services Group, BASF, G4S Secure Services, Seibert Powder Coating, and Advantis Occupational Health, Shreveport, Louisiana (subject firm).

On September 17, 2012, the Department issued an amended certification to include on-site leased workers of Veolia ES Industrial Services, Inc. and Automotive Quality Associates.

The workers' firm is engaged in activities related to the production of pick-up trucks.

Based on information provided in a later-filed Trade Adjustment Assistance petition, the Department reviewed the certification for workers of the subject firm.

New information from the subject firm shows that workers from Career Adventures are sufficiently under the control of General Motors Vehicle Manufacturing, Shreveport, Louisiana, to be considered leased workers.

The intent of the Department's certification is to include all workers of the subject firm who were adversely affected by increased imports of pick-up trucks.

Based on these findings, the Department is amending this certification to include workers leased from Career Adventures working on-site at the subject firm. The amended notice applicable to TA-W-81,751 is hereby issued as follows:

All workers of General Motors Vehicle Manufacturing, including on-site leased workers from Aerotek, Kelly Services, Voith Industrial Services, Shreveport Ramp Services, Dana Holding Corporation, The Landing of GM, Filtration Services Group, BASF, G4S Secure Services, Seibert Powder Coating, Advantis Occupational Health, Veolia ES Industrial Services, Inc., Automotive Quality Associates, and Career Adventures, Shreveport, Louisiana, who became totally or partially separated from employment on or after July 28, 2012, through August 3, 2014, and all workers in the group threatened with total or partial separation from employment on the date of certification through two years from the date of certification, are eligible to apply for adjustment assistance under Chapter 2 of Title II of the Trade Act of 1974, as amended.

Signed in Washington, DC, this 2nd day of October, 2012.
Del Min Amy Chen,
Certifying Officer, Office of Trade Adjustment Assistance.

[FR Doc. 2012-25200 Filed 10-12-12; 8:45 am]

BILLING CODE 4510-FN-P